DEPARTMENT OF THE INTERIOR

Fish and Wildlife Service

Receipt of Application for Endangered Species Permit

AGENCY: Fish and Wildlife Service, Interior.

ACTION: Notice of receipt of application for Endangered Species Permit.

SUMMARY: The following applicants have applied for permits to conduct certain activities with endangered species. This notice is provided pursuant to section 10(c) of the Endangered Species Act of 1973, as amended(16 U.S.C. 1531 et seq.).

DATES: Written data or comments on these applications must be received, at the address given below, by June 28, 2002.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESS). You may also comment via the Internet to “victoria_davis@fws.gov.” Please submit comments over the Internet as an ASCII file avoiding the use of special characters and any form of encryption. Please also include your name and return address in your Internet message. If you do not receive a confirmation from the Service that we have received your Internet message, contact us directly at either telephone number listed above (see FURTHER INFORMATION). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Arlena Maija Wartell, University of Georgia, Athens, Georgia, TE056509-0.

The applicant requests authorization to take (survey, capture, identify, examine, measure, tag, remove hair follicles, and release) the North Carolina northern flying squirrel (Glaucomys sabrinus colratus) to provide information on the genetic structure, diversity, and gene flow of the populations in the southern Appalachians. The proposed activities will take place at the following North Carolina locations: Plott Balsam Mountains, Roan Mountain, Grandfather Mountain, Great Smoky Mountains National Park, and Unicoi Mountains.

Applicant: Joseph H.K. Pechmann, University of New Orleans, New Orleans, Louisiana, TE056510-0.

The applicant requests authorization to take (survey, capture, tag, toe clip, monitor egg masses and tadpoles, and translocate) the Mississippi gopher frog (Rana capito sevosa) to gather information about the growth and survival and metamorphosis of tadpoles when raised in ponds that have different characteristics and to determine if the species raised in artificial ponds will return to breed. The proposed activities will take place in the DeSoto National Forest, Harrison County, Mississippi.

Applicant: Jeanette Wyneken, Florida Atlantic University, Boca Raton, Florida, TE056217-0.

The applicant requests authorization to take (survey, capture, identify, radio tag, measure and weigh, and release) the loggerhead sea turtle(Caretta caretta), Green sea turtle (Chelonia mydas), and leatherback sea turtle (Dermochelys coriacea) to monitor green sea turtle use of developmental habitat in near shore waters, to collate and summarize long-term data, to update the understanding of the North Atlantic loggerhead population structure in a spatially explicit way, to update and partition the morality associated with several well-documented environmental stressors, and to collect new comprehensive data to describe the sex ratios of hatchlings throughout the southeastern United States. The proposed activities will take place in Florida, Georgia, South Carolina, and North Carolina.

Applicant: Tennessee Valley Authority, Travis H. Henry, Norris, Tennessee, TE056341-0.

The applicant requests authorization to take (survey, capture, mark, recapture, and release) the gray bat (Myotis grisescens), Indiana bat (Myotis sidakus), and bald eagle (Haliaeetus leucocephalus) to determine presence and absence and to gather population data, and to conduct a feeding analysis study of bald eagles. The proposed activities will take place in 201 counties within the Tennessee Valley Authority Power Service Area. This would include areas throughout Tennessee and portions of Alabama, Mississippi, Georgia, North Carolina, Virginia, and Kentucky.

Applicant: University of North Carolina at Wilmington, Dr. Michael A. McCartney, Wilmington, North Carolina TE056186-0.

The applicant requests authorization to take (harass) the Waccamaw silverside (Menidia extensa) while conducting population surveys and collecting the Waccamaw darter (Etheostoma perlongum) for genetic studies. The proposed activities are confined to Lake Waccamaw in Columbus County, North Carolina.

Applicant: North Carolina Natural Heritage Program,Stephen P. Hall, Raleigh, North Carolina, TE056340-0.

The applicant requests authorization to take (collect) 15 Saint Francis'Satyr (Neonympha mitchellii francisci) for genetic studies. The purpose of the collection is to determine the identity of the newly discovered populations in Alabama and Virginia. The activities will take place at Fort Bragg Army Base, Cumberland and Hoke Counties, North Carolina.

Applicant: Fish and Wildlife Associates, Inc., Pamela M. Boaze, Whitter, North Carolina TE056486-0.

The applicant requests authorization to take (survey, capture, and translocate) the pink mucket (Lampsilis abrupta) and orangefoot pimpleback (Plethobasus cooperianus) to relocate mussels outside of the construction site of a bridge over State Road-2 and the demolition of an existing bridge over State Road-2. The proposed activities will take place in Loudon, Tennessee.

Applicant: Mark A. Bailey, Shorter, Macon, TE056488-0.

The applicant requests authorization to install artificial cavity inserts in red-cockaded woodpecker (Picoides borealis) habitat so that each cluster has a minimum of four suitable cavities. The proposed activities will take place at Mitchell Dam, Richville, and Flag Mountain, Coosa County, Alabama.

Dated: May 8, 2002.
Judy L. Pulliam,
Acting Regional Director.

[FR Doc. 02-13318 Filed 5-28-02; 8:45 am]

BILLING CODE 4310-55-P